SECURITIES AND EXCHANGE COMMISSION

[Release No. 34-73549; File Nos. SR-BATS-2014-028; SR-BYX-2014-011; SR-EDGA-2014-16; SR-EDGX-2014-19]

Self-Regulatory Organizations; BATS Exchange, Inc.; BATS Y-Exchange, Inc.; EDGA Exchange, Inc.; EDGX Exchange, Inc.; Notice of Withdrawal of Proposed Rule Changes To Establish a New Market Data Product Called the BATS One Feed

November 6, 2014.

On July 14, 2014, BATS Exchange, Inc. (“BATS”), EDGA Exchange, Inc. (“EDGA”), and EDGX Exchange, Inc. (“EDGX”) and, on July 18, 2014, BATS Y-Exchange, Inc. (together with BATS, EDGA, and EDGX, the “Exchanges”) each filed with the Securities and Exchange Commission (“Commission”) pursuant to Section 19(b)(1) of the Securities Exchange Act of 1934 (“Act”) ¹ and Rule 19b-4 thereunder,² proposed rule changes to establish the same new market data product called the BATS One Feed. The proposed rule changes were published for comment in the Federal Register on August 1, 2014.³ Two comments on the proposals have been received.⁴ On September 15, 2014, the Commission extended the time to act on the proposals until October 30, 2014.⁵ On October 29, 2014, the Exchanges withdrew the proposals (SR-BATS-2014-028; SR-BYX-2014-011; SR-EDGA-2014-16; SR-EDGX-2014-19).

¹ 15 U.S.C. 78s(b)(1).

² 17 CFR 240.19b-4.

³ See Securities Exchange Act Release Nos. 72688 (July 28, 2014), 79 FR 44941 (SR-BATS-2014-028); 72690 (July 28, 2014), 79 FR 44929 (SR-BYX-2014-011); 72689 (July 28, 2014), 79 FR 44917 (SR-EDGA-2014-16); and 72691 (July 28, 2014), 79 FR 44892 (SR-EDGX-2014-19).

⁴ See Letter from Sal Arnuk and Joe Saluzzi, Themis Trading LLC, to Elizabeth M. Murphy, Secretary, Commission, dated August 21, 2014; and Letter from Ira D. Hammerman, General Counsel, SIFMA, to Kevin M. O'Neill, Deputy Secretary, Commission, dated August 22, 2014 (letters commenting on SR-BATS-2014-18).

⁵ See Securities Exchange Act Release Nos. 73101, 79 FR 56418 (Sept. 19, 2014) (SR-BATS-2014-028); 73102, 79 FR 56419 (Sept. 19, 2014) (SR-BYX-2014-011); 73098, 79 FR 56415 (Sept. 19, 2014) (EDGA-2014-16); and 73099, 79 FR 56418 (Sept. 19, 2014) (SR-EDGX-2014-19).

For the Commission, by the Division of Trading and Markets, pursuant to delegated authority.⁶
⁶ 17 CFR 200.30-3(a)(12).
Kevin M. O'Neill,
Deputy Secretary.

[FR Doc. 2014-26812 Filed 11-12-14; 8:45 am]

BILLING CODE 8011-01-P